ENVIRONMENTAL PROTECTION AGENCY

[EPA-HQ-OAR-2011-0479; FRL-9317-1]

Proposed Approval of the Central Characterization Project's Remote-Handled Transuranic Waste Characterization Program at Bettis Atomic Power Laboratory

AGENCY: Environmental Protection Agency.

ACTION: Notice of availability; opening of public comment period.

SUMMARY: The Environmental Protection Agency (EPA or the Agency) is announcing the availability of, and soliciting public comments for 45 days on, the proposed approval of the radioactive remote-handled (RH) transuranic (TRU) waste characterization program implemented by the Central Characterization Project (CCP) at Bettis Atomic Power Laboratory (BAPL) in West Mifflin, Pennsylvania. This waste is intended for disposal at the Waste Isolation Pilot Plant (WIPP) in New Mexico.

In accordance with the WIPP Compliance Criteria, EPA evaluated the characterization of RH TRU debris waste from BAPL-CCP during a series of four inspections, most recently conducted on April 12-13, 2011. By evaluating the waste characterization systems and processes for RH waste that the U.S. Department of Energy's (DOE's) Carlsbad Field Office (CBFO) program developed, EPA verified whether DOE could adequately characterize RH TRU debris waste, consistent with the Compliance Criteria. The results of EPA's evaluation of BAPL-CCP's RH TRU waste characterization program and its proposed approval are described in the Agency's inspection report, which is available for review in the public dockets listed in ADDRESSES. We will consider public comments received on or before the due date mentioned in DATES.

This notice summarizes the waste characterization processes evaluated by EPA and EPA's proposed approval. As required by 40 CFR 194.8, at the end of a 45-day comment period EPA will evaluate public comments received, and if appropriate, finalize the reports responding to the relevant public comments and issue a final report and approval letter to DOE.

DATES: Comments must be received on or before July 25, 2011.

ADDRESSES: Submit your comments, identified by Docket ID No. EPA-HQ-OAR-2011-0479, by one of the following methods:

• http://www.regulations.gov: Follow the on-line instructions for submitting comments.

• E-mail: to a-and-r-docket@epa.gov

• Fax: 202-566-1741

• Mail: Air and Radiation Docket and Information Center, Environmental Protection Agency, Mailcode: 6102T, 1200 Pennsylvania Ave., NW., Washington, DC 20460.

Instructions: Direct your comments to Attn: Docket ID No. EPA-HQ-OAR-2011-0479. The Agency's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the http://www.regulations.gov index. Although listed in the index, some information is not publicly available, e.g., CBI or other information whose disclosure is restricted by statute. Certain other material, such as copyrighted material, will be publicly available only in hard copy. Publicly available docket materials are available electronically at http://www.regulations.gov. As provided in EPA's regulations at 40 CFR part 2, and in accordance with normal EPA docket procedures, if copies of any docket materials are requested, a reasonable fee may be charged for photocopying.

FOR FURTHER INFORMATION CONTACT: Rajani Joglekar or Ed Feltcorn, Radiation Protection Division, Center for Waste Management and Regulations, Mail Code 6608J, U.S. Environmental Protection Agency, 1200 Pennsylvania Avenue, Washington, DC 20460; telephone number: 202-343-9601; fax number: 202-343-2305; e-mail address: joglekar.rajani@epa.gov or feltcorn.ed@epa.gov.

SUPPLEMENTARY INFORMATION:

I. General Information

A. What Should I Consider as I Prepare My Comments for EPA?

1. Submitting CBI. Do not submit this information to EPA through http://www.regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for Preparing Your Comments. When submitting comments, remember to:

• Identify the rulemaking by docket number and other identifying information (subject heading, Federal Register date and page number).

• Follow directions—The agency may ask you to respond to specific questions or organize comments by referencing a Code of Federal Regulations (CFR) part or section number.

• Explain why you agree or disagree; suggest alternatives and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the comment period deadline identified.

II. Background

DOE is developing WIPP, near Carlsbad in southeastern New Mexico, as a deep geologic repository for disposal of TRU radioactive waste. As defined by the WIPP Land Withdrawal Act (LWA) of 1992 (Pub. L. 102-579), as amended (Pub. L. 104-201), TRU waste consists of materials with radionuclides that have atomic numbers greater than 92 (with half-lives greater than twenty years), in concentrations greater than 100 nanocuries of alpha-emitting TRU isotopes per gram of waste. Much of the existing TRU waste consists of items contaminated during the production of nuclear weapons, such as rags, equipment, tools, and sludges.

TRU waste is itself divided into two categories, based on its level of radioactivity. Contact-handled (CH) TRU waste accounts for about 97 percent of the volume of TRU waste currently destined for the WIPP. It is packaged in 55-gallon metal drums or in metal boxes and can be handled under controlled conditions without any shielding beyond the container itself. The maximum radiation dose at the surface of a CH TRU waste container is 200 millirems per hour. CH waste primarily emits alpha particles that are easily shielded by a sheet of paper or the outer layer of a person's skin.

Remote-handled (RH) TRU waste emits more radiation than CH TRU waste and must therefore be both handled and transported in specially shielded containers. Surface radiation levels of unshielded containers of remote-handled transuranic waste exceed 200 millirems per hour. RH waste primarily emits gamma radiation, which is very penetrating and requires concrete, lead, or steel to block it.

On May 13, 1998, EPA issued a final certification of compliance for the WIPP facility. The final rule was published in the Federal Register on May 18, 1998 (63 FR 27354). EPA initially recertified WIPP on March 29, 2006 (71 FR 18015) and officially recertified the facility most recently on November 18, 2010 (75 FR 70584). Both the certification and recertification decisions determined that WIPP complies with the Agency's radioactive waste disposal regulations at 40 CFR part 191, subparts B and C, and is therefore safe to contain TRU waste.

The final WIPP certification decision includes conditions that (1) prohibit shipment of TRU waste for disposal at WIPP from any site other than the Los Alamos National Laboratories (LANL) until the EPA determines that the site has established and executed a quality assurance program, in accordance with 194.22(a)(2)(i), 194.24(c)(3), and 194.24(c)(5) for waste characterization activities and assumptions (Condition 2 of Appendix A to 40 CFR Part 194); and (2) (with the exception of specific, limited waste streams and equipment at LANL) prohibit shipment of TRU waste for disposal at WIPP (from LANL or any other site) until EPA has approved the procedures developed to comply with the waste characterization requirements of 194.22(c)(4) (Condition 3 of Appendix A to 40 CFR Part 194). The EPA's approval process for waste generator sites is described in 194.8 (revised July 2004).

Condition 3 of the WIPP Certification Decision requires EPA to conduct independent inspections at DOE's waste generator/storage sites of their TRU waste characterization capabilities before approving their program and the waste for disposal at the WIPP. EPA's inspection and approval process gives EPA: (a) Discretion in establishing technical priorities; (b) the ability to accommodate variation in the site's waste characterization capabilities; and (c) flexibility in scheduling site waste characterization inspections.

As described in Section 194.8(b), EPA's baseline inspections evaluate each waste characterization process component (equipment, procedures, and personnel training/experience) for its adequacy and appropriateness in characterizing TRU waste destined for disposal at WIPP. During an inspection, the site demonstrates its capabilities to characterize TRU waste(s) and its ability to comply with the regulatory limits and tracking requirements under 194.24. A baseline inspection may describe any limitations on approved waste streams or waste characterization processes [§ 194.8(b)(2)(iii)]. In addition, a baseline inspection approval must specify what subsequent waste characterization program changes or expansion should be reported to EPA [§ 194.8(b)(4)]. The Agency is required to assign Tier 1 (T1) and Tier 2 (T2) designations to the reportable changes depending on their potential impact on data quality. A T1 designation requires that the site notify EPA of proposed changes to the approved components of an individual waste characterization process (such as radioassay equipment or personnel), and that EPA approve the change before it can be implemented. A waste characterization element with a T2 designation allows the site to implement changes to the approved components of individual waste characterization processes (such as visual examination procedures) but requires EPA notification. The Agency may choose to inspect the site to evaluate technical adequacy before approval. EPA inspections conducted to evaluate T1 or T2 changes are follow-up inspections under the authority of 194.24(h). In addition to the follow-up inspections, if warranted, EPA may opt to conduct continued compliance inspections at TRU waste sites with a baseline approval under the authority of 194.24(h).

The site inspection and approval process outlined in 194.8 requires EPA to issue a Federal Register notice proposing the baseline compliance decision, docket the inspection report for public review, and seek public comment on the proposed decision for a period of 45 days. The report must describe the waste characterization processes EPA inspected at the site, as well as their compliance with 194.24 requirements.

III. Proposed Baseline Compliance Decision

EPA conducted Baseline Inspection No. EPA-BAPL-CCP-RH-04.11-8 of the waste characterization program for RH TRU waste (waste stream BT-1001) in four steps: (1) At Bettis Laboratory (August 30, 2010) to observe the Visual Examination (VE) process; (2) sample collection (September 23, 2010); (3) dose-to-curie (DTC) measurements (December 8, 2010); and, the final baseline inspection at the Agency's Office of Radiation and Indoor Air (ORIA) in Washington, DC, on April 12 and 13, 2011. In accordance with the provisions of 40 CFR 194.8(b), EPA evaluated the site's program to characterize wastes proposed for disposal at WIPP. EPA is seeking public comment on the proposed approval which, when final, will allow BAPL-CCP to characterize and dispose of RH TRU debris waste at WIPP.

The inspection scope included one waste stream—BAPL Waste Stream BT-1001, which consists of 15 containers. Since additional RH TRU waste is not expected to be generated in the foreseeable future from decontamination and decommissioning of hot cells, any additional RH TRU waste stream generated at BAPL beyond the subject of this inspection and proposed approval will require a new baseline inspection and approval.

Waste Stream BT-T001 consists of research and experimental debris generated at Bettis Laboratory from 1973 through 1992. This inspection evaluated: acceptable knowledge (AK) records; dose-to-curie (DTC), in conjunction with radionuclide-specific scaling factors supported by radiochemical analyses of smear samples from the hot cells; and visual examination (VE) to confirm the physical and radiological contents of waste containers. The scope of the inspection was limited to the 15 55-gallon drums containing this waste, which was initially packaged in 15 high-pressure containers (HIPs).

The EPA inspection team identified one finding related to both the AK and radiological characterization processes that BAPL-CCP implemented to characterize RH Waste Stream BT-T-001 (see Attachment C of the accompanying inspection report). In response to this finding, BAPL-CCP revised several key documents associated with both AK and radiological characterization and prepared new documents identified as “freeze files” following the inspection (see Attachment D of the accompanying inspection report). Freeze files contain revisions to certain documents made to address the Agency's issues as objective evidence for the changes being made. These revisions are then processed by BAPL-CCP's document control process to generate an “official,” most current version. EPA reviewed these freeze files and determined that they adequately addressed the finding and that the BAPL-CCP RH TRU waste characterization program was technically adequate and appropriately documented.

In several cases, EPA reviewed the modifications to specific documents in the form of “freeze files” serving as objective evidence to address EPA's finding. As a result of this EPA finding, BAPL-CCP had to revise several documents, which will be forwarded to EPA upon completion of the formal document control process. These freeze files will become final as formal, revised documents and provided to EPA before the end of the public comment period.

Some of the revised documents that BAPL-CCP generated are subject to Bettis Laboratory's Public Utterance process (see Section 7.2 of the accompanying inspection report), which could affect EPA's planned approval schedule. EPA is accepting the BAPL-CCP freeze files as objective evidence to support its proposed approval. EPA expects (and Bettis Laboratory has agreed) that the revised formal documents will (a) Be identical to the freeze files, (b) undergo the Public Utterance Process during EPA's 45-day public comment period window, and (c) be provided to EPA before the end of the comment period for review so EPA can issue its final approval of the BAPL-CCP RH TRU waste characterization program.

EPA's proposed approval for the BAPL-CCP waste characterization program implemented to characterize RH debris waste belonging to Waste Stream BT-T001 includes the following:

(1) The AK process for 15 HIPs of RH retrievably-stored TRU debris designated as BAPL Waste Stream BT-T001

(2) The radiological characterization process using DTC and scaling factors for assigning radionuclide values to Waste Stream BT-T001 that is documented in CCP-AK-BAPL-501, Revision 1, and supported by the calculation packages referenced in this report

(3) The VE process to identify waste material parameters (WMPs) and the physical form of the waste.

Generally, EPA's RH and CH baseline inspections evaluate a site's waste characterization program for technical adequacy and, when approved, the TRU site continues to use the approved program components to characterize additional wastes on an ongoing basis. However, the subject Bettis Laboratory waste stream has been fully characterized and no further waste characterization activities relative to this waste stream will take place. Therefore, this proposed approval is limited to the discrete set of 15 HIPs in BAPL Waste Stream BT-T001. As previously mentioned, a new baseline approval will be necessary for any legacy or newly-generated RH waste at the Bettis Laboratory. BAPL-CCP may not characterize any additional RH waste in the future based on this baseline approval. Consequently, EPA has not listed any Tier 1 (T1) or Tier 2 (T2) designations relative to this waste and the waste characterization components covered by this proposed approval.

EPA must verify compliance with 40 CFR 194.24 before waste may be emplaced in the WIPP, as specified in Condition 3 of EPA's certification of the WIPP's compliance with disposal regulations for TRU radioactive waste [63 Federal Register (FR) 27354 and 27405, May 18, 1998]. EPA Baseline Inspection No. EPA-BAPL-CCP-RH-04.11-8 was performed in accordance with the provisions of 40 CFR 194.8(b), as issued in a July 16, 2004, FR notice (Vol. 69, No. 136, pp. 42571-42583).

IV. Availability of the Baseline Inspection Report for Public Comment

EPA has placed the report discussing the results of the Agency's inspection of BAPL-CCP in the public docket as described in ADDRESSES. In accordance with 40 CFR 194.8, EPA is providing the public 45 days to comment on these documents. The Agency requests comments on the proposed approval decision, as described in the inspection report. EPA will accept public comment on this notice and supplemental information as described in Section 1.B. above. EPA will not make a determination of compliance before the 45-day comment period ends. At the end of the public comment period, EPA will evaluate all relevant public comments and revise the inspection report as necessary. If appropriate, the Agency will then issue a final approval letter and inspection report, both of which will be included in EPA's public dockets.

Information on the certification decision is filed in the official EPA Air Docket, Docket No. A-93-02 and is available for review in Washington, DC, and at the three EPA WIPP informational docket locations in Albuquerque, Carlsbad, and Santa Fe, New Mexico. The dockets in New Mexico contain only major items from the official Air Docket in Washington, DC, plus those documents added to the official Air Docket since the October 1992 enactment of the WIPP LWA.

Dated: June 2, 2011.
Michael P. Flynn,
Director,
Office of Radiation and Indoor Air.

[FR Doc. 2011-14193 Filed 6-7-11; 8:45 am]

BILLING CODE 6560-50-P